DEPARTMENT OF AGRICULTURE

Forest Service

National Urban and Community Forestry Advisory Council

AGENCY: Forest Service, USDA.

ACTION: Notice of May Call for Nominations 2011.

SUMMARY: The National Urban and Community Forestry Advisory Council, (NUCFAC) will be filling three positions that will expire at the end of December 2011. Interested applicants may download a copy of the application and position descriptions from the U.S. Forest Service's Urban and Community Forestry Web site: http://www.fs.fed.us/ucf.

DATES: Nomination(s) must be “received” (not postmarked) by August 29, 2011.

ADDRESSES: Nomination applications by courier should be addressed to: Nancy Stremple, Executive Staff to National Urban and Community Forestry Advisory Council, 1400 Independence Avenue, SW., Yates Building (1 Central) MS-1151, Washington, DC 20250-1151. Please submit electronic nomination(s) to: nucfac_ucf_proposals@fs.fed.us. The subject line should read: May NUCFAC Nominations 2011.

FOR FURTHER INFORMATION CONTACT: Nancy Stremple, Executive Staff to National Urban and Community Forestry Advisory Council, 1400 Independence Avenue, SW., Yates Building (1 Central) MS-1151, Washington, DC 20250-1151, phone 202-205-1054.

Individuals who use telecommunication devices for the deaf (TDD) may call the Federal Information Relay Service (FIRS) at 1-800-877-8339 between 8 a.m. and 8 p.m., Eastern Standard Time, Monday through Friday.

SUPPLEMENTARY INFORMATION: Facsimiles will not be accepted as official nominations. E-mail or a courier service is recommended. Regular mail submissions must be screened by the Agency and may delay the receipt of the application up to a month.

A total of three positions will be filled. The following three positions will serve a 3-year term from January 1, 2012, to December 31, 2014:

• A member representing forest products; nursery, or related industries.

• One of two members representing academic institutions with an expertise in urban and community forestry activities.

• Not officers or employees of any government body with a population of greater than 50,000 and has experience and is active in urban and community forestry.

Dated: July 19, 2011.
James Hubbard,
Deputy Chief, State and Private Forestry.

[FR Doc. 2011-18950 Filed 7-26-11; 8:45 am]

BILLING CODE 3410-11-P